DEPARTMENT OF COMMERCE

Foreign-Trade Zones Board

[Docket 14-2010]

Foreign-Trade Zone 70 - Detroit, Michigan, Application for Expansion

An application has been submitted to the Foreign-Trade Zones Board (the Board) by the Greater Detroit Foreign Trade Zone, Inc., grantee of FTZ 70, requesting authority to expand FTZ 70 to include two new sites in Wayne County, Michigan, within the Detroit Michigan Customs and Border Protection Port of Entry. The application was submitted pursuant to the provisions of the Foreign-Trade Zones Act, as amended (19 U.S.C. 81a-81u), and the regulations of the Board (15 CFR part 400). It was formally filed on February 24, 2010.

FTZ 70 was approved on July 21, 1981 (Board Order 176, 46 F.R. 38941, 7/30/81), reorganized on April 15, 1985 (Board Order 299, 50 FR 16119, 4/24/85) and expanded on November 27, 1989 (Board Order 453, 54 FR 50258, 12/5/89), April 20, 1990 (Board Order 471, 55 F.R. 17775, 4/27/90), February 20, 1996 (Board Order 802, 61 FR 7237, 2/27/96), August 26, 1996, (Board Order 843, 61 FR 46763, 9/5/96), April 5, 2001 (Board Order 1162, 66 FR 19423, 4/16/01), May 23, 2005, (Board Order 1395, 70 FR 32570, 6/3/05) and June 22, 2007 (Board Order 1515, 72 FR 35968, 7/2/07). The general-purpose zone currently consists of 33 sites in the Detroit, Michigan area

The applicant is requesting authority to expand the zone to include two new sites in Wayne County, Michigan as follows: Proposed Site 34 (33 acres) located at 6837 Wyoming Street, Dearborn, and Proposed Site 35 (39 acres) located at 9400 McGraw Street, Detroit, Michigan Both sites will be operated by Dearborn Steel Center, Inc. No specific manufacturing authority is being requested at this time. Such requests would be made to the Board on a case-by-case basis.

In accordance with the Board's regulations, Claudia Hausler of the FTZ Staff is designated examiner to evaluate and analyze the facts and information presented in the application and case record and to report findings and recommendations to the Board.

Public comment is invited from interested parties. Submissions (original and 3 copies) shall be addressed to the Board's Executive Secretary at the address below. The closing period for their receipt is May 10, 2010. Rebuttal comments in response to material submitted during the foregoing period may be submitted during the subsequent 15-day period to May 25, 2010.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Claudia Hausler at Claudia.Hausler@trade.gov or (202) 482-1379.

Dated: February 24, 2010.
Andrew McGilvray,
Executive Secretary.

[FR Doc. 2010-5281 Filed 3-10-10; 8:45 am]

BILLING CODE 3510-DS-S